ENVIRONMENTAL PROTECTION AGENCY

40 CFR Part 52

[EPA-R06-OAR-2012-0953; FRL-9952-77-Region 6]

Approval and Promulgation of Air Quality Implementation Plans; Texas; Infrastructure Requirements for Consultation With Government Officials, Public Notification and Prevention of Significant Deterioration and Visibility Protection for the 2008 Ozone and 2010 Nitrogen Dioxide National Ambient Air Quality Standards

AGENCY: Environmental Protection Agency (EPA).

ACTION: Proposed rule.

SUMMARY: The Environmental Protection Agency (EPA) is proposing to approve portions of State Implementation Plan (SIP) submittals from the State of Texas pertaining to Clean Air Act (CAA) section 110(a)(2)(J): Consultation with Government Officials, Public Notification, and Prevention of Significant Deterioration and Visibility Protection for the 2008 Ozone (O3) and 2010 Nitrogen Dioxide (NO2) National Ambient Air Quality Standards (NAAQS). These submittals address how the existing SIP provides for implementation, maintenance, and enforcement of the 2008 O3 and 2010 NO2 NAAQS (infrastructure SIPs or i-SIPs). These i-SIPs ensure that the State's SIP is adequate to meet the State's responsibilities under the CAA. Today's proposal and the accompanying direct final action will complete the rulemaking process started in our February 8, 2016, proposal, approve the SIP submittals as meeting CAA section 110(a)(2)(J), and confirm that the SIP has adequate infrastructure to implement, maintain and enforce this section of the CAA with regard to the 2008 O3 and 2010 NO2 NAAQS.

DATES: Written comments should be received on or before November 7, 2016.

ADDRESSES: Submit your comments, identified by EPA-R06-OAR-2012-0953, at http://www.regulations.gov or via email to fuerst.sherry@epa.gov. For additional information on how to submit comments see the detailed instructions in the ADDRESSES section of the direct final rule located in the rules section of this Federal Register.

FOR FURTHER INFORMATION CONTACT: Sherry Fuerst, (214) 665-6454, fuerst.sherry@epa.gov.

SUPPLEMENTARY INFORMATION: In the final rules section of this Federal Register, EPA is approving the State's i-SIP submittal as a direct rule without prior proposal because the Agency views this as a noncontroversial submittal and anticipates no adverse comments. A detailed rationale for the approval is set forth in the direct final rule. If no relevant adverse comments are received in response to this action, no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register.

Dated: September 30, 2016.
Samuel Coleman,
Acting Regional Administrator, Region 6.

[FR Doc. 2016-24117 Filed 10-6-16; 8:45 am]

BILLING CODE 6560-50-P